NATIONAL SCIENCE FOUNDATION

Special Emphasis Panel in Undergraduate Education; Notice of Meeting

In accordance with the Federal Advisory Committee Act (Pub. L. 92-463, as amended), the National Science Foundation announces the following meeting.

Name: Special Emphasis Panel in Undergraduate Education (1214).

Date/Time: June 21, 22 & 23, 2000; 8 AM to 5 PM.

Place: Room 330, National Science Foundation, 4201 Wilson Blvd., Arlington, VA.

Type of Meeting: Closed.

Contact person: Drs. Elizabeth J. Teles and Gerhard L. Salinger, National Science Foundation, 4201 Wilson Boulevard, VA 22230. Telephone (703) 306-1667.

Purpose of Meeting: To provide advice and recommendations concerning proposals submitted to NSF for financial support.

Agenda: To review and evaluate ATE proposals as part of the selection process for awards.

Reason for Closing: The proposals being reviewed include information of a proprietary or confidential nature, including technical information; financial data, such as salaries, and personal information concerning individual associated with the proposals. These matters are exempt under 5 U.S.C. 552b(c), (4) and (6) of the Government in the Sunshine Act.

Dated: April 3, 2000.
Karen J. York.
Committee Management Officer.

[FR Doc. 00-8495 Filed 4-5-00; 8:45 am]

BILLING CODE 7555-01-M